NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by October 11, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-012

Applicant: Dr. George Watters, Director, AMLR Program, Southwest Fisheries Science Center, National Marine Fisheries Service, 8901 La Jolla Shores Drive, La Jolla, CA 92037.

Activity for Which Permit Is Requested

Take, Harmful Interference, Enter Antarctic Specially Protected Areas, Import into USA. This permit application pertains to research activities conducted by the National Oceanic and Atmospheric Administration's (NOAA) Antarctic Marine Living Resources (AMLR) Program. The U.S. AMLR Program proposes to take pinniped species in the Antarctic Peninsula region, primarily at Cape Shirreff, Livingston Island, as part of a long-term ecosystem monitoring program established in 1986. Permission is requested to take Antarctic fur seals (Arctocephalus gazelle; 1203 adult/juvenile; 6005 pups), southern elephant seals (Mirounga leonine; 102 adult/juvenile; 102 pups), crabeater seals (Lobodon carcinophaga; census only), leopard seals (Hydrurga leptonyx; 202 adult/juvenile), Ross seals (Ommatophoca rossii; census only), and Weddell seals (Leptonychotes weddellii; 62 adult/juvenile; 42 pups) by harassment associated with life-history studies and surveys to census or estimate abundance and distribution of pinnipeds. Specific take activities include capture/handling/release of animals for studies of attendance behavior (radio transmitter (VHF)), diving (time-depth recorders; TDRs), at-sea foraging locations (platform terminal transmitter (PTT), geo-location light loggers (GLS), or global positioning system (GPS) instruments), energetics (doubly-labeled water studies using stable and or radio-isotopes), diet (including enema, milk collection for fatty acid signature analysis, or tissues for stable isotope analysis), age determination (post-canine tooth extraction), pathology (blood collection), and population dynamics (tagging). The U.S. AMLR Program does not plan any lethal take; however, accidental mortality as a direct result of the studies is possible and thus included as part of this application. All methods to be used in the conduct of the proposed studies have been used extensively by U.S. AMLR researchers and the marine mammal research community, generally. All studies of foraging ecology, population dynamics, mark-recapture, census, reproductive success and energetics are part of a long-term monitoring effort coordinated with other Antarctic treaty nations under the auspices of Convention for the Conservation of Antarctic Marine Living Resources (CCAMLR).

The U.S. AMLR Program also proposes continue studies of the behavioral ecology and population biology of the Adélie, gentoo, and chinstrap penguins, as well as interactions among these species and their principal avian predators (skuas, gulls, sheathbills and giant petrels). These studies make use of permanent marks (including flipper banding, pit tagging, and genetic markers) to identify individuals and track them accurately over time. The applicant will continue to study penguins' foraging habits, involving the use of VHF, PTT, GPS, TDRs and GLS tags. These instruments may be deployed on adults of all species at any time during the breeding season and on chicks of all species during the fledging period. Another component of the foraging behavior studies will involve diet collections using the wet offloading technique. The applicant plans to stomach lavage adult penguins at each site. The applicant will also collect data on egg sizes and adult weights of each species and weigh and measure chicks at crèche age (ca. 21 days of age) and fledging for comparative annual growth indices in all species. In addition, penguin uropygial gland oil may be collected for contaminant studies and unhatched penguin eggs may be collected for lipid analysis. Empty egg shells and feathers (breast and tail) may also be collected for isotopic and genetic studies. Morphometric information to be recorded includes bill (culmen) depth and length and tarsus length. These measurements are usually taken during tag deployment, diet collection, or banding. The principal avian predators of the penguins (skuas, gulls, giant petrels and sheathbills) are also monitored and, when possible, adults and chicks will be banded, weighed and measured for behavioral and demographic studies. In addition, the applicant may census, band and measure cape petrels and blue-eyed shags. The applicant may collect samples of penguin and skua blood from adults of each species. The number of takes per annum of each avian species will be as follows: chinstrap penguin, 3320; Adelie penguin, 2880; Gentoo penguin, 3020; brown skua, 600; south polar skua, 600; giant petrel, 600; kelp gull, 100; blue-eyed shag, 150; snowy sheathbill, 45; cape petrel, 200. All sampling protocols involve techniques that are standard within the seabird community. Those protocols related to the CCAMLR Ecosystem Monitoring Program (CEMP) are described by CCAMLR.

The U.S. AMLR Program requests permission to conduct extensive studies at the Cape Shirreff and Copacabana research sites. Additionally, the Program anticipates conducting intermittent peninsula-wide pinniped and seabird surveys. As such, the applicant requests access to all ASPAs in the South Shetland Islands and in the Antarctic Peninsula. Entry to sites will be made via U.S. AMLR charter or NSF vessels, with immediate access via zodiac operations. Peninsula-wide pinniped and seabird surveys may include the use of unmanned aerial vehicles and photogrammetry. U.S. AMLR researchers will adhere to ASPA protections at all times and plan all activities to minimize disruption to flora and fauna. All species, pinniped and avian, are subject to harmful interference due to census (aerial or ground) and other work described in this application.

Location

Antarctic Peninsula region, South Shetland Islands vicinity: Cape Shirreff, Livingston Island; San Telmo Islands; Copacabana, western shore of Admiralty Bay; and Lions Rump, King George Island.

ASPA 108, Green Island, Berthelot Islands, Antarctic Peninsula

ASPA 112, Coppermine Peninsula, Robert Island

ASPA 113, Litchfield Island, Arthur Harbor, Palmer Archipelago

ASPA 125, Fildes Peninsula, King George Island, South Shetland Islands

ASPA 126, Byers Peninsula, Livingston Island, South Shetland Islands

ASPA 128, Western Shore of Admiralty Bay, King George Island

ASPA 132, Potter Peninsula, King George Island, South Shetland Islands

ASPA 133, Harmony Point, Nelson Island, South Shetland Island

ASPA 134, Cierva Point Offshore Islands, Danco Coast, Antarctic Peninsula

ASPA 139, Biscoe Point, Anvers Island

ASPA 140, Shores of Port Foster, Deception Island, South Shetland Islands

ASPA 144, Chile Bay

ASPA 145, Port Foster, Deception Island, South Shetland Islands

ASPA 146, South Bay, Doumer Island, Palmer Archipelago

ASPA 148, Mount Flora, Hope Bay, Antarctic Peninsula

ASPA 149, Cape Shirreff, Livingston Island, South Shetland Islands

ASPA 150, Ardley Island, Maxwell Bay, King George Island, South Shetland Islands

ASPA 151, Lions Rump, King George Island, South Shetland Islands

ASPA 152, Western Bransfield Strait, Antarctic Peninsula

ASPA 153, East Dallmann Bay, Antarctic Peninsula

ASPA 171, Narebski Point, Barton Peninsula, King George Island

Dates: October 1, 2016-July 30, 2021
Nadene G. Kennedy,
Polar Coordination Specialist, Division of Polar Programs.

[FR Doc. 2016-21668 Filed 9-8-16; 8:45 am]

BILLING CODE 7555-01-P